ENVIRONMENTAL PROTECTION AGENCY

40 CFR Part 52

[EPA-R06-OAR-2010-0113; FRL-9168-4]

Approval and Promulgation of Air Quality Implementation Plans; Louisiana; Determination of Attainment of the 1997 Ozone Standard

AGENCY: Environmental Protection Agency (EPA).

ACTION: Proposed rule.

SUMMARY: The EPA is proposing to determine that the Baton Rouge, Louisiana moderate 1997 8-hour ozone nonattainment area has attained the 1997 8-hour National Ambient Air Quality Standard (NAAQS) for ozone. This proposed determination is based upon complete, quality assured, certified ambient air monitoring data that show the area has monitored attainment of the 1997 8-hour ozone NAAQS since the 2006-2008 monitoring period, and continues to monitor attainment of the NAAQS based on 2009 data. If this proposed determination is made final, under the provisions of EPA's ozone implementation rule, the requirements for this area to submit an attainment demonstration, a reasonable further progress plan, contingency measures, and other planning State Implementation Plans related to attainment of the 1997 8-hour ozone NAAQS shall be suspended for so long as the area continues to attain the 1997 ozone NAAQS.

DATES: Written comments must be received on or before July 26, 2010.

ADDRESSES: Submit your comments, identified by Docket No. EPA-R06-OAR-2010-0113, by one of the following methods:

Federal Rulemaking Portal: http://www.regulations.gov. Follow the on-line instructions for submitting comments.

U.S. EPA Region 6 “Contact Us” Web site: http://epa.gov/region6/r6coment.htm. Please click on “6PD“(Multimedia) and select “Air” before submitting comments.

E-mail: Mr. Guy Donaldson at donaldson.guy@epa.gov. Please also send a copy by email to the person listed in the FOR FURTHER INFORMATION CONTACT section below.

Fax: Mr. Guy Donaldson, Chief, Air Planning Section (6PD-L), at fax number 214-665-7263.

Mail: Mr. Guy Donaldson, Chief, Air Planning Section (6PD-L), Environmental Protection Agency, 1445 Ross Avenue, Suite 1200, Dallas, Texas 75202-2733.

Hand or Courier Delivery: Mr. Guy Donaldson, Chief, Air Planning Section (6PD-L), Environmental Protection Agency, 1445 Ross Avenue, Suite 1200, Dallas, Texas 75202-2733. Such deliveries are accepted only between the hours of 8 a.m. and 4 p.m. weekdays except for legal holidays. Special arrangements should be made for deliveries of boxed information.

Instructions: Direct your comments to Docket ID No. EPA-R06-OAR-2010-0113. EPA's policy is that all comments received will be included in the public docket without change and may be made available online at http://www.regulations.gov, including any personal information provided, unless the comment includes information claimed to be Confidential Business Information (CBI) or other information the disclosure of which is restricted by statute. Do not submit information through http://www.regulations.gov or e-mail that you consider to be CBI or otherwise protected from disclosure. The http://www.regulations.gov Web site is an anonymous access system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below to make an appointment. If possible, please make the appointment at least two working days in advance of your visit. There will be a fee of 15 cents per page for making photocopies of documents. On the day of the visit, please check in at the EPA Region 6 reception area at 1445 Ross Avenue, Suite 700, Dallas, Texas 75202-2733.

FOR FURTHER INFORMATION CONTACT: Ms. Sandra Rennie, Air Planning Section (6PD-L), Environmental Protection Agency, Region 6, 1445 Ross Avenue, Suite 700, Dallas, Texas 75202-2733, telephone (214) 665-7367, fax (214) 665-7263, e-mail address rennie.Sandra@epa.gov.

SUPPLEMENTARY INFORMATION: Throughout this document whenever “we,” “us,” or “our” is used, we mean EPA.

Organization of this document. The following outline is provided to aid in locating information in this preamble.

I. What action Is EPA taking?
II. What is the effect of this action?
III. What is the background for this action?
IV. What is EPA's analysis of the relevant Air Quality Data?
V. Proposed Action
VI. Statutory and Executive Order Reviews

I. What action is EPA taking?

EPA is proposing to determine that the Baton Rouge, Louisiana moderate 1997 8-hour ozone nonattainment area (hereafter the Baton Rouge area) has attained the 1997 8-hour National Ambient Air Quality Standard (NAAQS) for ozone. This proposed determination is based upon complete, quality assured and certified ambient air monitoring data that show the area has monitored attainment of the ozone NAAQS since the 2006-2008 monitoring period, and monitoring data that continue to show attainment of the NAAQS based on 2009 data in the Air Quality System (AQS) database. Preliminary data available to date for the 2010 ozone season are also consistent with continued attainment.

II. What is the effect of this action?

If this proposed determination is made final, under the provisions of EPA's ozone implementation rule (see 40 CFR Section 51.918), the requirements for the Baton Rouge area to submit an attainment demonstration, a reasonable further progress plan, section 172(c)(9) contingency measures, and any other State Implementation Plan (SIP) planning measures related to attainment of the 1997 8-hour ozone NAAQS would be suspended for so long as the area continues to attain the ozone NAAQS.

This proposed action, if finalized, would not constitute a redesignation to attainment under CAA section 107(d)(3), because we would not yet have an approved maintenance plan for the area as required under section 175A of the CAA, nor a determination that the area has met the other requirements for redesignation. The classification and designation status of the area would remain moderate nonattainment for the 1997 8-hour ozone NAAQS until such time as EPA determines that it meets all the CAA requirements for redesignation to attainment.

If this rulemaking is finalized and EPA subsequently determines, after notice-and-comment rulemaking in the Federal Register, that the area has violated the 1997 8-hour ozone standard, the basis for the suspension of these requirements would no longer exist, and the area would thereafter have to address the pertinent CAA requirements.

III. What is the background for this action?

On April 30, 2004 (69 FR 23857), EPA designated as nonattainment any area that was violating the 1997 8-hour ozone NAAQS based on the three most recent years (2001-2003) of air quality data. The Baton Rouge area (specifically, Ascension, East Baton Rouge, Iberville, Livingston, and West Baton Rouge Parishes) was designated as a marginal ozone nonattainment area. The Baton Rouge area was reclassified to moderate on March 21, 2008, effective on April 21, 2008 (73 FR 15087). Recent air quality data indicate that the Baton Rouge area is now attaining the 1997 8-hour ozone standard.

IV. What is EPA's analysis of the relevant air quality data?

The EPA has reviewed the Baton Rouge area's 2006-2008 ambient air monitoring data for ozone consistent with the requirements contained in 40 CFR part 50 and recorded in the EPA AQS database. On the basis of that review, EPA has concluded that this area attained the 1997 8-hour ozone standard at the end of the 2008 ozone season, based on three years of complete, quality-assured and state certified 2006-2008 ozone data. In addition, ozone data for 2007-2009, also in AQS, show the area continues to attain the 1997 8-hour ozone NAAQS. Under EPA regulations at 40 CFR part 50, the 1997 8-hour ozone standard is attained when the 3-year average of the annual fourth-highest daily maximum 8-hour average ozone concentrations at an ozone monitor is less than or equal to 0.08 parts per million (ppm) (i.e., 0.084 ppm, based on the rounding convention in 40 CFR part 50, Appendix I). This 3-year average is referred to as the design value. When the design value is less than or equal to 0.084 ppm at each monitor within the area, then the area is meeting the NAAQS. (See 69 FR 23857 (April 30, 2004) for further information.) Also, the data completeness requirement is met when the average percent of days with valid ambient monitoring data is greater than 90%, and no single year has less than 75% data completeness as determined in Appendix I of 40 CFR part 50.

Table 1 shows the fourth-highest daily maximum 8-hour average ozone concentrations for the Baton Rouge, Louisiana nonattainment area monitors for the years 2006-2009.

Table 1—Fourth High 8-Hour Ozone Average Concentrations and Design Values (ppm) in the Baton Rouge Area ¹
Site | 4th Highest daily max: 2006 | 4th Highest daily max: 2007 | 4th Highest daily max: 2008 | 4th Highest daily max: 2009 | Design values three year averages: 2006-2008 | Design values three year averages: 2007-2009
Plaquemine (22-047-0009) | 0.083 | 0.079 | 0.076 | 0.071 | 0.079 | 0.075
Carville (22-047-0012) | 0.085 | 0.086 | 0.073 | 0.076 | 0.081 | 0.078
Dutchtown (22-005-0004) | 0.087 | 0.088 | 0.074 | 0.074 | 0.083 | 0.078
Baker (22-033-1001) | 0.091 | 0.077 | 0.071 | 0.071 | 0.079 | 0.073
LSU (22-033-0003) | 0.085 | 0.085 | 0.072 | 0.084 | 0.080 | 0.080
Grosse Tete (22-047-0007) | 0.086 | 0.084 | 0.071 | 0.070 | 0.080 | 0.075
Port Allen (22-121-0001) | 0.087 | 0.076 | 0.072 | 0.072 | 0.078 | 0.073
Pride (22-033-0013) | 0.082 | 0.077 | 0.074 | 0.072 | 0.077 | 0.074
French Settlement (22-063-0002) | 0.079 | 0.084 | 0.075 | 0.075 | 0.079 | 0.078
Capitol (22-033-0009) | 0.084 | 0.074 | 0.067 | 0.076 | 0.075 | 0.072
¹ Unlike for the 1-hour ozone standard, design value calculations for the 1997 8-hour ozone standard are based on a rolling three-year average of the annual 4th highest values (40 CFR part 50, Appendix I).

EPA's review of these data shows that the Baton Rouge ozone nonattainment area has met and continues to meet the 1997 8-hour ozone NAAQS. Data for 2007-2009, show the area continues to attain the 1997 8-hour ozone NAAQS. Preliminary data available to date for the 2010 ozone season are consistent with continued attainment. EPA is soliciting public comments on the issues discussed in this notice or on other relevant matters pertaining to this rulemaking action. These comments will be considered before EPA takes final action. Interested parties may participate in the Federal rulemaking procedure by submitting written comments to the EPA Region 6 Office listed in the ADDRESSES section of this Federal Register.

V. Proposed Action

EPA is proposing to determine that the Baton Rouge 1997 8-hour ozone moderate nonattainment area has attained the 1997 8-hour ozone standard, based on complete, quality assured data through 2008, and data for 2007-2009 indicating continued attainment. Preliminary data for the 2010 ozone season available to date are consistent with continued attainment. As provided in 40 CFR 51.918, if EPA finalizes this determination, it would suspend the requirements for the Baton Rouge area to submit planning SIPs related to attainment of the 1997 8-hour ozone NAAQS for this area, for so long as the area continues to attain the standard.

VI. Statutory and Executive Order Reviews

This action proposes to make a determination of attainment based on air quality, and would, if finalized, result in the suspension of certain Federal requirements, and would not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to the requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR part 52

Environmental protection, Air pollution control, Intergovernmental relations, Nitrogen dioxide, Ozone, Reporting and recordkeeping requirements, Volatile organic compounds.

Authority: 42 U.S.C. 7401, et seq.

Dated: June 14, 2010.
Lawrence E. Starfield,
Acting Regional Administrator, Region 6.

[FR Doc. 2010-15471 Filed 6-24-10; 8:45 am]

BILLING CODE 6560-50-P